DEPARTMENT OF TRANSPORTATION

Coast Guard

33 CFR Part 165

[CGD11-00-007]

RIN 2115-AE84

Regulated Navigation Area; San Pedro Bay, California

AGENCY: Coast Guard, DOT.

ACTION: Notice of proposed rulemaking.

SUMMARY: The Coast Guard is proposing to revise the regulated navigation area for San Pedro Bay, California. Due to the port expansion projects underway in the Ports of Los Angeles and Long Beach, the Coast Guard conducted a Port Access Route Study (PARS). The PARS notice of study results, published in the Federal Register on May 19, 2000, recommended, among other things, changes to the San Pedro Bay regulated navigation area (RNA). In general, the Coast Guard is proposing to expand the RNA to the south approximately 2.2 nm. The proposed changes to the RNA boundaries would coincide with the boundaries of the Precautionary Area, essentially making the two boundaries the same. The Coast Guard is also proposing minor changes to some vessel operational procedures and requirements to reflect the necessary modifications with respect to traffic management due to the port construction and expansion projects.

DATES: Comments must be received on or before September 5, 2000.

ADDRESSES: Comments should be mailed to Commander (Pmc-3), USCG PACAREA/D11, Bldg 50-6, Coast Guard Island, Alameda, CA 94501-5100. The comments and other materials referenced in this proposed rule will be available for inspection and copying at the Marine Safety Office. Normal office hours are between 7:30 a.m. and 4 p.m., Monday through Friday, except holidays. Comments may also be hand delivered to this address.

FOR FURTHER INFORMATION CONTACT: Lieutenant Patricia Springer, Chief Vessel Traffic Management Section, 11th Coast Guard District, telephone (510) 437-2951.

SUPPLEMENTARY INFORMATION:

Request for Comments

Interested persons are invited to participate in this proposed rulemaking by submitting written views, data or concerns to the office listed under ADDRESSES in this preamble. Persons submitting comments should include their names and addresses, identify the docket number for the regulations (CGD11-00-007), the specific section of the proposal to which their comments apply, and give reasons for each comment.

The regulations may be changed in light of the comments received. All comments received before the expiration of the comment period will be considered before final action is taken on this proposal. No public hearing is planned, however, one may be held if written requests for a hearing are received and it is determined that the opportunity to make oral presentations will aid in the rule making process.

Definitions

The following definitions should help you review this document:

Precautionary area means a routing measure comprising an area within defined limits where ships must navigate with particular caution and within which the direction of traffic flow may be recommended.

Traffic lane means an area within defined limits in which one-way traffic is established.

Traffic Separation Scheme or TSS means a routing measure aimed at the separation of opposing streams of traffic by appropriate means and by the establishment of traffic lanes.

Vessel routing system means any system of one or more routes or routing measures aimed at reducing the risk of casualties; it includes traffic separation schemes, two-way routes, recommended tracks, areas to be avoided, inshore traffic zones, roundabouts, precautionary areas, and deep-water routes.

Background and Purpose

In 1999, the Coast Guard conducted a Port Access Route Study (PARS), which we announced in a document published in the Federal Register on March 11, 1999 (63 FR 12140). A PARS was needed to evaluate the effects of port improvement projects for the ports of Los Angeles and Long Beach on navigational safety and vessel traffic management efficiency, and to recommend any necessary changes to existing routing measures. The Coast Guard completed the study in July 1999 and announced the results of this study in a Notice published in the Federal Register on May 19, 2000 (65 FR 31856). Among other things, this study recommended modifications to the precautionary areas, existing TSS's, and aids to navigation.

Major port improvement projects for the Ports of Los Angeles and Long Beach have taken place. These projects include the following:

Lengthening of the Los Angeles Approach Channel to extend approximately 3.5 nautical miles beyond the Los Angeles breakwater;

Deepening of the Los Angeles Approach Channel to a project depth of 81 feet;

Shift of the Long Beach Approach to a 355 degrees True inbound course; and

Deepening of the Long Beach Approach Channel to a project depth of 69 feet.

Fill and construction activities within the Los Angeles/Long Beach Harbors and development of a shallow water habitat have constricted the amount of room available for small commercial and recreational traffic to maneuver within the Outer Harbor, Middle, and Long Beach breakwaters. This has the effect of concentrating traffic flows and placing small marine traffic more directly in competition with deep draft traffic for use of the Precautionary Area.

During the PARS, the Coast Guard consulted with Federal and State agencies and solicited the views of representatives of the maritime community, port and harbor authorities or associations, environmental groups and other interested parties. The Coast Guard also considered previous studies and experience in the areas of vessel traffic management, navigation, ship handling, and the effects of weather, and review prior analyses of the traffic density. In particular, the Coast Guard reviewed the results of a 1982 LA/LB Port Access Route Study (47 FR 27430, June 24, 1982) and a 1995 Port Access Route Study (61 FR 55248, October 25, 1996) which focused on vessel traffic management measures along the California coast from San Francisco to Los Angeles.

Three comment letters were received and indicated strong overall support for the PARS recommendations. To enhance navigational safety and vessel traffic management efficiency, the study recommended three changes to the existing vessel routing and traffic management measures.

1. Expand the Existing LA/LB Precautionary Area

The study found that the existing Precautionary Area should be expanded to provide enhanced navigational safety in light of the pending and planned improvements to the port facilities and navigational channels previously discussed. The port improvements discussed above will allow even larger vessels to call on Los Angeles and Long Beach. These larger, less maneuverable ships will be constrained to the channels. The study also noted that the current practice of freighters, tankers, tugs and barges, fishing boats and pleasure craft converging in the Precautionary Area would continue to present hazards for all mariners.

Expansion of the existing Precautionary Area should result in several positive impacts for safe navigation. First, the expanded Precautionary Area should give vessels of all types, sizes, and drafts more time and room to maneuver in their approach to or departure from the ports. Second, by this rulemaking, the Commander, Eleventh Coast District, is proposing modifications to the San Pedro Bay RNA, promulgated at 33 CFR 165.1109, to geographically match the expanded Precautionary Area. When specified categories of vessels enter the RNA, they are required to slow. This allows more time for vessel traffic management, e.g. queuing of vessels arriving and departing during peak periods and coordinating passing arrangements. Finally, the expanded Precautionary Area should be well adapted to the lengthened Los Angeles entrance channel.

2. Relocate the Western and Southern TSSs

The study found that the existing western and southern TSSs do not yield safe or practical approaches to the improved Long Beach and Los Angeles entrance channels. The study recommended a shift of the western TSS to the south and a shift of the southern TSS to the west. The Eleventh Coast Guard District's Aids to Navigation Division (oan) is developing a separate rulemaking to address changes to the TSSs.

3. Modifications to Aids to Navigation

The PARS solicited specific recommendations regarding the aids to navigation design for the lengthened approach channels to Los Angeles and Long Beach, CA. Specific recommendations included adding, deleting, relocating and upgrading the existing buoys in these channels. The Commander, Eleventh Coast Guard District will review these recommendations and make final decisions concerning Los Angeles-Long Beach aids to navigation in light of the Coast Guard's waterways analysis management system (WAMS). Specific questions on WAMS should be directed to the Eleventh Coast Guard District's points of contact listed in FOR FURTHER INFORMATION CONTACT.

Discussion of Regulation

Modifications to the RNA. The Commander, Eleventh Coast Guard District is proposing modifications to the San Pedro Bay RNA. As previously discussed, one proposed change will make the RNA geographically the same as the precautionary area.

A Precautionary Area is an internationally recognized routing measure comprising an area within defined limits where ships must navigate with particular caution. By itself, a precautionary area does not impose specific maneuvering requirements on vessels.

A Regulated Navigation Area (RNA) is a regulatory measure that defines an area, in which the Coast Guard has imposed specific vessel operating requirements because of the existence of hazardous conditions. Due to the quantity of vessel traffic and diversity of types of vessels transiting the approach to Los Angeles and Long Beach harbors, the Coast Guard thinks that the general guidance of a Precautionary Area is insufficient to ensure safe transit of the area. Therefore, in addition to establishing the Precautionary Area, the Coast Guard is also establishing an RNA, which covers the same area of waters and includes specific vessel operating procedures.

This proposed rulemaking will also address vessel operating requirements; vessel size, speeds, draft limitations; operating conditions; and pilot boarding areas.

Below is a summary of the specific changes to the RNA:

• The southern boundary of the RNA will be moved to the south approximately 2.2 nautical miles (nm) to align with the new western traffic separation scheme. The southeastern corner of the RNA will be shifted to the west approximately 1.8 nm on a bearing on 220 degrees T from the easterly most point of the existing Precautionary Area, to align with the new southern traffic separation scheme (The changes to the traffic separation schemes are the subject of a separate rulemaking to be published in the future).

• The Los Angeles Pilot Area will be expanded approximately 0.4 nm to the south-southeast.

• The Long Beach Pilot Area will be expanded approximately 1.7 nm to the south.

• A Deep Water Traffic lane approximately 3.27 nm long will be established in the Los Angeles approach channel.

• A Deep Water Traffic Lane approximately 1.9. nm long will be established in the Long Beach approach channel.

• A Deep Water Pilot Area will be established just south of the Los Angeles Deep Water Traffic Lane. It will be centered on position 33°39′00″ N, 118°13'11.6”W, approximately 0.5 nm south of the southern terminus of the Los Angeles Channel and will be 1.0 nm in diameter.

The proposed amendment to the RNA would expand the size of the RNA and change certain operating procedures for vessels transiting the RNA. The Ports of Los Angeles and Long Beach are conducting significant alterations to their port complex and waterway layout. These changes include lengthening and deepening of both approach channels to the Federal Breakwater. The lengthened approach channels will extend beyond the western traffic lane that joins the existing Precautionary Area. Without changes to the traffic lanes, the precautionary area and the RNA, these lengthened channels would create vessel traffic management problems and increase the risk of collision to vessels operating in the area. The Los Angeles-Long Beach Harbor Safety Committee provided a detailed recommendation to the PARS recommending expansion of the size of the Precautionary Area and concurrently expanding the RNA to cover the entire Precautionary Area.

The existing RNA only extends out to approximately 3 (nm) offshore and covers roughly half of the existing Precautionary Area. Navigable waters, for the purposes of the Ports and Waterways Safety Act (33 U.S.C. 1222), were extended from 3nm to 12nm by section 301 of the Coast Guard Authorization Act of 1998 and Presidential Proclamation 5928, allowing the Coast Guard to establish RNAs in areas outside of 3nm.

The location, size and shape of the Pilot Areas for the harbors are also being changed due to the lengthening and deepening of the harbor entrance channels. Pilot Areas are designated waters where ships maneuver to embark or disembark a pilot. Pilot Area regulations are in place to allow this transfer to occur safely and without interference from other vessel traffic. The Long Beach Pilot Area will be expanded to the south approximately 1.6 nm to encompass the entire length of the newly deepened channel. Enlarging this pilot area will allow the pilots to board inbound vessels further offshore in order to guide the ships through the channel. The Los Angeles Pilot Area will also be extended to the south-southeast by approximately 0.4nm. The expanded Los Angeles Pilot Area will not cover the entire length of the newly deepened channel as it is expected that only those vessels with a draft greater than 50 feet will need to use the entire length of the channel. Lesser draft vessels may enter and depart the channel closer to the Los Angeles Harbor entrance and will embark and disembark their pilot there.

The newly lengthened and deepened Los Angeles and Long Beach approach channels will be designated Deep Water Traffic Lanes. When a vessel drawing more than 50 feet is using the Deep Water Traffic Lane, other vessels will not be allowed to enter the traffic lane. A Deep Water Pilot Area will be established at the southern end of the Los Angeles Deep Water Traffic Lane to afford pilots an area to board vessels with drafts greater than 50 feet. A deep water pilot area is not considered necessary for the Long Beach entrance.

Regulatory Evaluation

This proposed rule is not a significant regulatory action under section 3(f) of Executive Order 12866 and does not require an assessment of potential costs and benefits under section 6(a)(3) of that order. It has been exempted from review by the Office of Management and Budget under that order. It is not significant under the regulatory policies and procedures of the Department of Transportation (44 FR 11040; February 26, 1979). The Coast Guard expects the economic impact of this proposal to be so minimal that a full Regulatory Evaluation under paragraph 10(e) of the regulatory policies and procedures of Department of Transportation is unnecessary.

Small Entities

Under the Regulatory Flexibility Act (5 U.S.C. 601 et seq.), the Coast Guard must consider whether this proposed rule will have a significant economic impact on a substantial number of small entities. “Small entities” may include small businesses and not-for-profit organizations that are not dominant in their respective fields, and governmental jurisdictions with populations less than 50,000. For the same reasons set forth in the above Regulatory Evaluation, the Coast Guard certifies under 5 U.S.C. 605(b) that this proposed rule is not expected to have a significant economic impact on any substantial number of entities, regardless of their size.

Assistance for Small Entities

In accordance with section 213(a) of the Small Business Regulatory Enforcement Fairness Act of 1996 (Public Law 104-121), the Coast Guard wants to assist small entities in understanding this proposed rule so that they can better evaluate its effects on them and participate in the rule making process. If your small business or organization is affected by this proposed rule and you have questions concerning its provisions or options for compliance, please contact Lieutenant Patricia Springer at the address indicated under ADDRESSES.

Collection of Information

This proposed regulation contains no collection of information requirements under the Paperwork Reduction Act (44 U.S.C. 3501 et seq.).

Federalism

The Coast Guard has analyzed this proposed regulation under the principles and criteria contained in Executive Order 13132 and has determined that this proposed regulation does not have federalism implications under that Order.

Environmental Assessment

The Coast Guard has considered the environmental impact of this proposed regulation and concluded that under Chapter 2.B.2. of Commandant Instruction M16475.1C, Figure 2-1, paragraph (34)(g), it will have no significant environmental impact and it is categorically excluded from further environmental documentation.

Unfunded Mandates

Under the Unfunded Mandates Reform Act of 1995 (Public Law 104-4), the Coast Guard must consider whether this proposed rule will result in an annual expenditure by state, local, and tribal governments, in the aggregate of $100 million (adjusted annually for inflation). If so, the Act requires that a reasonable number of regulatory alternatives be considered, and that from those alternatives, the least costly, most cost-effective, or least burdensome alternative that achieves the objective of the rule be selected.

No state, local, or tribal government entities will be affected by this proposed rule, so this proposed rule will not result in annual or aggregate costs of $100 million or more. Therefore, the Coast Guard is exempt from any further regulatory requirements under the Unfunded Mandates Act.

Taking of Private Property

This proposed rule will not effect a taking of private property or otherwise have taking implications under this Executive Order 12630, Governmental Actions and Interference with Constitutionally Protected Property Rights.

Civil Justice Reform

This proposed rule meets applicable standards in section 3(a) and 3(b)(2) of Executive Order 12988, Civil Justice Reform, to minimize litigation, eliminate ambiguity, and reduce burden.

Protection of Children

We have analyzed this rule under Executive Order 13045, Protection of Children from Environmental Health Risks and Safety Risks. This proposed rule does not concern an environmental risk to safety disproportionately affecting children.

List of Subjects in 33 CFR Part 165

Harbors, Marine safety, Navigation (water), Reports and recordkeeping requirements, Vessels, Waterways.

Proposed Regulation

For the reasons discussed in the preamble, the Coast Guard proposes to amend 33 CFR Part 165 as follows:

PART 165—[AMENDED]

1. The authority citation for 33 CFR Part 165 continues to read as follows:

Authority: 33 U.S.C. 1231; 50 U.S.C. 191, 33 CFR 1.05-1(g), 6.04-1, 6.04-6, 160.5; 49 CFR 1.46.

2. Revise § 165.1109 to read as follows:

§ 165.1109 San Pedro Bay, California—Regulated navigation area.

(a) Applicability. This section applies to all vessels unless otherwise specified.

(b) Deviations. The Captain of the Port of Los Angeles-Long Beach or his or her designated representative may authorize a deviation from the requirements of this regulation when it is deemed necessary in the interests of safety.

(c) Location. (1) The following is a regulated navigation area: The waters of San Pedro Bay encompassed by the following geographic coordinates:

From Point Fermin Light (33°42′18″ N, 118°17′36″ W) thence allow the shoreline to the San Pedro Breakwater, thence along the San Pedro Breakwater and the Middle Breakwater (following the COLREGS Demarcation Lines) to the Long Beach Channel Entrance Light 2 (33°43′24″ N, 118°10′48″ W), thence southeast to (33°37′42″ N, 118°06′36″ W), thence southwesterly to (33°35′30″ N, 118°08′48″ W), thence west to (33°35′30″ N, 118°17′36″ W), thence north to the point of origin. [All datum: NAD 1983]

(2) The San Pedro Bay RNA consists of the following defined sub-areas:

(i) The Los Angeles Pilot Area. This area is enclosed by a line beginning at the Los Angeles Light (33°42′30″ N, 118°15′06″ W), thence east to Los Angeles Main Light Channel Entrance Light 2 (33°42′42″ N, 118°14′12″ W), thence southeasterly to (33°41′17″ N, 118°13′30″ W), thence southwesterly to (33°40′51″ N, 118°14′53″ W), thence north to the point of origin.

(ii) The Long Beach Pilot Area. This area is enclosed by a line beginning at Long Beach Light (33°43′24″ N, 118°11′12″ W), thence east to Long Beach Channel Entrance Light 2 (33°43′24″ N, 118°10′48″ W), thence south-southeasterly to (33°41′30″ N, 118°10′13″ W), thence south to (33°40′31″ N, 118°10′13″ W), thence west to (33°40′31″ N, 118°11′49″ W), thence north to (33°41′30″ N, 118°11′49″ W), thence north-northeasterly to the point of origin.

(iii) The Los Angeles Deep Water Traffic Lane. This area is bounded by a line beginning at (33°42′28″ N, 118°14′56.9″ W) thence easterly to (33°42′33.4″ N, 118°14′45″ W), thence southeasterly to (33°39′29″ N, 118°13′19.4″ W), thence westerly to (33°39′25.1″ N, 118°13′33″ W), thence northerly to the point of origin.

(iv) The Long Beach Deep Water Traffic Lane. This area is bounded by a line beginning at (33°43′25.5″ N, 118°11′09″ W) thence east to (33°43′23.3″ N, 118°10′54.1″ W), thence south to (33°41′30.8″ N, 118°10′42.6″ W), thence west to (33°41′30″ N, 118°10′57″ W), thence north to the point of origin.

(v) The Los Angeles Deep Water Pilot Area. A circular area of 1.0 nm diameter centered on (33°39′00″ N, 118(13′11.6″ W).

(d) General regulations. The following regulations contained in paragraphs (d)(1) through (d)(3) of this section apply to power driven vessels of 1600 or more gross tons, a towing vessel of 8 meters (approximately 26 feet) or over in length engaged in towing, or vessels of 100 gross tons and upward carrying one or more passengers for hire:

(1) A vessel shall not exceed a speed of 12 knots through the water within the RNA.

(2) A vessel navigating within the RNA, shall have its engine(s) ready for immediate maneuver and shall operate its engine(s) in a control mode and on fuel that will allow for an immediate response to any engine order, ahead or astern, including stopping its engine(s) for an extended period of time.

(3) A vessel navigating within the RNA shall maintain a minimum separation from other vessels of at least 0.25 nm.

(e) Specific regulations. [All Datum: NAD 1983]

(1) Los Angeles Pilot Area. (i) No vessel may enter the Los Angeles Pilot Area unless it is entering or departing Los Angeles Harbor entrance (Angels Gate).

(ii) Vessels entering the Los Angeles Pilot Area shall pass directly through without stopping or loitering except as necessary to embark or disembark a pilot.

(2) Long Beach Pilot Area. (i) No vessel may enter the Long Beach Pilot Area unless it is entering or departing Long Beach Harbor entrance (Queens Gate).

(ii) Vessels entering the Long Beach Pilot Area shall pass directly through without stopping or loitering except as necessary to embark or disembark a pilot.

(iii) Every vessel shall leave Long Beach Approach Lighted Whistle Buoy “LB” to port when entering and departing Long Beach Channel and departing vessels shall pass across the southern boundary of the Long Beach Pilot Area.

(3) Los Angeles and Long Beach Deep Water Traffic Lanes. When a vessel of 50 foot draft or greater is using the Los Angeles or Long Beach Deep Water Traffic Lane no other vessel shall enter the deep water traffic lane if it will result in a meeting, crossing or overtaking situation.

(4) Los Angeles Deep Water Pilot Area. When a vessel of 50 foot draft or greater is embarking or disembarking a pilot in the Los Angeles Deep Water Pilot Area no other vessel shall enter the Deep Water Pilot Area.

(5) Commercial Anchorage G Area. No vessel may enter the waters between Commercial Anchorage G and the Middle Breakwater as defined by an area enclosed by the by a line beginning at Los Angeles Main Channel Entrance Light 2 (33°42′42″ N, 118°14′42″ W), thence east along the Middle Breakwater to Long Beach Light (33°43′24″ N, 118°11′12″ W), thence south to (33° 43′05.3″ N, 118°11′15.3″ W), thence westerly to (33°43′05.3″ N, 118°12′15.7″ W), thence southwesterly parallel to the breakwater to (33°42′25.9″ N, 118°14′18.0″ W, thence to the point or origin, unless such vessel is:

(i) In an emergency;

(ii) Proceeding to anchor in or departing Commercial Anchorage G;

(iii) Standing by with confirmed pilot boarding arrangements; or,

(iv) Engaged in towing vessels to or from Commercial Anchorage G, or to or from the waters between Commercial Anchorage G and the Middle Breakwater.

Dated: July 6, 2000.
C.D. Wurster,
Acting Captain, U.S. Coast Guard, Commander, Coast Guard Pacific Area, Acting.

[FR Doc. 00-18313 Filed 7-20-00; 8:45 am]

BILLING CODE 4910-15-U